DEPARTMENT OF JUSTICE

Antitrust Division

Notice Pursuant to the National Cooperative Research and Production Act of 1993; The SNP Consortium Ltd.

Notice is hereby given that, on March 23, 2001, pursuant to Section 6(a) of the National Cooperative Research and Production Act of 1993, 15 U.S.C. 4301 et seq. (“the Act”), The SNP Consortium (“TSC”) filed written notification simultaneously with the Attorney General and the Federal Trade Commission disclosing (1) the identities of the parties and (2) the nature of objective of the venture. The notifications were filed for the purpose of extending the Act's provisions limiting the recovery of antitrust plaintiffs to actual damages under specified circumstances.

Specifically, two parties to this venture, Glaxo Wellcome Inc., Research Triangle Park, NC, and SmithKline Beecham Corporation, Philadelphia, PA have merged their membership into a single membership held by Glaxo Wellcome, Inc., Research Triangle Park, NC. In addition, another party to this venture, Amersham Pharmacia Biotech Inc., Piscataway, NJ, has become a voting member in this venture.

No other changes have been made in either the membership or planned activity of the group research project. Membership in this group research project remains open, and TSC intends to file additional written notification disclosing all changes in membership.

On April 20, 1999, TSC filed its original notification pursuant to Section 6(a) of the Act. The Department of Justice published, a notice in the Federal Register pursuant to Section 6(b) of the Act on October 7, 1999 (64 FR 54645).

Constance K. Robinson,
Director of Operations, Antitrust Division.

[FR Doc. 01-23955 Filed 9-24-01; 8:45 am]

BILLING CODE 4410-11-M